DEPARTMENT OF HEALTH AND HUMAN SERVICES

Centers for Disease Control and Prevention

[30Day-15-14ARR]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Drug Overdose Response Investigation (DORI) Data Collections—New—National Center for Injury Prevention and Control (NCIPC), Centers for Disease Control and Prevention (CDC).

Background and Brief Description

State and local health authorities frequently call upon CDC's National Center for Injury Prevention and Control (NCIPC) to assist in their response to urgent public health problems resulting from drug use, misuse, abuse, and overdose. When called, NCIPC supports the states and local health authorities by conducting Drug Overdose Response Investigations (DORI), which entails a rapid and flexible epidemiological response. Urgent requests, such as DORIs, depend on the time and resources available, number of persons involved, and other circumstances unique to the urgent conditions at hand, and usually involve the development of procedures, specific data collection instruments, and the collection of critical data.

This request is for a new generic approval to conduct information collections during DORIs. A three-year clearance is requested to ensure: (1) Rapid deployment of data collection tools and (2) timely information collection of vital information. Of particular interest is response to increasing trends in, or changing characteristics of, overdose from prescription drugs (with a special interest in opioid analgesics such as oxycodone or methadone; benzodiazepines such as alprazolam) and/or illicit drugs (e.g., heroin).

Specifically, this request covers investigative collections with the following aims: (1) To understand sudden increases in drug use and misuse associated with fatal and nonfatal overdoses; (2) to understand the drivers and risk factors associated with those trends; and (3) to identify the groups most affected. This will allow CDC to effectively advise states on recommended actions to control local epidemics. Thus, the ultimate goals of these collections are to minimize adverse health consequences, provide epidemiological data collection support to the states and, based on the findings from the investigation, appropriately assist with implementation of prevention and control measures.

Data is collected by epidemiologists, psychologists, medical professionals, subject matter experts, and biostatisticians. Examples of data collection modes that may be employed during DORIs include: Archival record abstractions and reviews, face-to-face interviews, telephone interviews, web-based questionnaires, and self-administered questionnaires.

For example, information collected through archival chart review from hospitals and medical examiners could include demographics, drug use history, reported medical and mental health conditions, place of overdose, place of death, drug paraphernalia on the scene, mode of administration, observers present, naloxone administration, hospital admittance, autopsy findings, and toxicology results. Information collected through interviews with representatives from agencies involved in preventing, intervening, or responding to drug overdose could include professional history, personal experience with drug overdose cases or investigations, prevention or intervention efforts engaged in, and perceptions of characteristics of, or changes in drug overdose cases (e.g., transition from opioids to heroin; increasing or decreasing rates). Collection of information from nonfatal overdose victims, and friends and family of overdose victims could include substance use history, prescription drug history, number of providers and pharmacies used, pain history, co-occurring health conditions (e.g., abnormal snoring indicative of respiratory depression), mental health conditions (e.g., depression, anxiety disorders), enrollment in drug treatment programs, sources of drugs, route of drug administration, and criminal history. Finally, collection of spatial information could be obtained through city, county, and state government agencies to determine structural and environmental factors associated with location of overdose deaths.

Respondent type will also vary by investigation, but will include organizations typically involved in prevention, intervention, and response to drug overdose (e.g., public health, law enforcement authorities, health systems, and community organizations). Respondents also may include victims of non-fatal drug overdoses, as well as family and friends of victims.

During a DORI, data is collected once, with the rare need for follow-up. There are no costs to respondents other than their time.

Estimated Annualized Burden Hours
Type of respondent | Form name | Number of respondents | Number of responses per respondent | Average burden per response (in hours)
Drug Overdose Response Investigation Participants | Drug Overdose Response Investigation Data Collection Instruments | 2,700 | 1 | .5

Leroy A. Richardson,
Chief, Information Collection Review Office, Office of Scientific Integrity, Office of the Associate Director for Science, Office of the Director, Centers for Disease Control and Prevention.

[FR Doc. 2014-27850 Filed 11-24-14; 8:45 am]

BILLING CODE 4163-18-P